DEPARTMENT OF HEALTH AND HUMAN SERVICES

Centers for Disease Control and Prevention

[30Day-12-12BT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC at (404) 639-7570 or send an email to omb@cdc.gov. Send written comments to CDC Desk Officer, Office of Management and Budget, Washington, DC or by fax to (202) 395-5806. Written comments should be received within 30 days of this notice.

Proposed Project

Community Transformation Grants: Use of System Dynamic Modeling and Economic Analysis in Select Communities—New—National Center for Chronic Disease Prevention and Health Promotion (NCCDPHP), Centers for Disease Control and Prevention (CDC).

Background and Brief Description

As part of a multi-component evaluation plan for the Community Transformation Grant program (CTG), CDC is seeking OMB approval to collect the information needed to conduct cost and cost-benefit analyses relating to the implementation of CTG-funded community interventions. Using a system dynamics approach, CDC also plans to conduct simulation modeling which will integrate the cost data with other data to predict selected chronic disease outcomes and their associated monetary impacts under various scenarios. CDC and NIH have previously collaborated on the development of analytic tools for system dynamics modeling under more limited conditions. The collection and analysis of actual cost data from CTG awardees will support the expansion and refinement of these analytic tools with respect to short-, intermediate- and long-term outcomes for large-scale, community-based programs that employ multiple policy and environmental change strategies.

Information to be collected from participating CTG awardees includes the interventions to be implemented; expenditures for labor, personnel, consultants, materials, travel, services, and administration; in-kind contributions; and partner organizations and their expenditures. Information will be collected electronically via a user-friendly, Web-based CTG Cost Study Instrument (CTG-CSI). Respondents will be a subset of 30 out of 35 CTG awardees funded specifically for implementation activities. CDC will select awardees for participation in the cost data collection based on a list of priority interventions appropriate for cost analysis.

Results of this data collection and planned analyses, including improvements in CDC's analytic and modeling tools, will be used to assist CTG awardees, CDC, and HHS in choosing intervention approaches for particular populations that are both beneficial to public health and cost-effective.

OMB approval is requested for the first three years of a five-year project. CDC requests OMB approval by June 1, 2012, to initiate data collection on July 1, 2012. CDC plans to seek an extension of OMB approval to support information collection through the end of the five-year award period.

Information will be collected electronically on a quarterly schedule. The estimated burden per response is 13 hours and there are no costs to respondents except their time to participate in the survey. The total estimated annualized burden hours are 1,560.

Estimated Annualized Burden Hours
Type of respondents | Form name | Number of respondents | Number of responses per respondent | Avg. burden per response (in hours)
CTG Awardee | CTG-CSI | 30 | 4 | 13

Kimberly S. Lane,
Deputy Director, Office of Science Integrity, Office of the Associate Director for Science, Centers for Disease Control and Prevention.

[FR Doc. 2012-5495 Filed 3-6-12; 8:45 am]

BILLING CODE 4163-18-P